DEPARTMENT OF ENERGY

Federal Energy Regulatory Commission

Combined Notice of Filings #1

Take notice that the Commission received the following electric corporate filings:

Docket Numbers: EC20-5-001.

Applicants: 83WI 8me, LLC, Lily Solar, LLC, Lily Solar Lessee, LLC,X-elio Energy SC York, LLC, Brookfield Renewable Power Ltd.

Description: Notice of Change in Circumstances of 83WI 8me, LLC, et al.

Filed Date: 1/15/20.

Accession Number: 20200115-5170.

Comments Due: 5 p.m. ET 2/5/20.

Take notice that the Commission received the following electric rate filings:

Docket Numbers: ER17-256-010; ER17-242-009; ER17-243-009; ER17-245-009; ER17-652-009.

Applicants: Darby Power, LLC, Gavin Power, LLC, Lawrenceburg Power, LLC, Waterford Power, LLC, Lightstone Marketing LLC.

Description: Notice of Non-Material Change in Status of Darby Power, LLC, et al.

Filed Date: 1/15/20.

Accession Number: 20200115-5180.

Comments Due: 5 p.m. ET 2/5/20.

Docket Numbers: ER18-1652-004; ER10-2960-011; ER15-356-013; ER19-2231-003; ER15-357-013; ER19-2232-003; ER10-1595-014; ER18-2418-003; ER10-1598-014; ER10-1616-014; ER10-1618-014; ER18-1821-006.

Applicants: AL Mesquite Marketing, LLC, Astoria Generating Company, L.P., Chief Conemaugh Power, LLC, Chief Conemaugh Power II, LLC, Chief Keystone Power, LLC, Chief Keystone Power II, LLC, Crete Energy Venture, LLC, Great River Hydro, LLC, Lincoln Generating Facility, LLC, New Covert Generating Company, LLC, Rolling Hills Generating, L.L.C., Walleye Power, LLC.

Description: Notice of Non-Material Change in Status of AL Mesquite Marketing, LLC, et al.

Filed Date: 1/14/20.

Accession Number: 20200114-5232.

Comments Due: 5 p.m. ET 2/4/20.

Docket Numbers: ER20-821-000.

Applicants: Texas Dispatchable Wind 1, LLC.

Description: Tariff Cancellation: Texas Dispatchable Wind 1, LLC Cancellation of Market-Based Rate Tariff to be effective 1/17/2020.

Filed Date: 1/16/20.

Accession Number: 20200116-5085.

Comments Due: 5 p.m. ET 2/6/20.

Docket Numbers: ER20-823-000.

Applicants: Niagara Mohawk Power Corporation, New York Independent System Operator, Inc.

Description: § 205(d) Rate Filing: 205 re: NMPC and LaChute Hydro Small Generator Interconnection Agreement SA2511 to be effective 12/19/2019.

Filed Date: 1/17/20.

Accession Number: 20200117-5014.

Comments Due: 5 p.m. ET 2/7/20.

Docket Numbers: ER20-824-000.

Applicants: AEP Texas Inc.

Description: § 205(d) Rate Filing: AEPTX-La Chalupa Interconnection Agreement Second Amend & Restated to be effective 1/13/2020.

Filed Date: 1/17/20.

Accession Number: 20200117-5022.

Comments Due: 5 p.m. ET 2/7/20.

Docket Numbers: ER20-827-000.

Applicants: Alabama Power Company.

Description: § 205(d) Rate Filing: JEA Interconnection Agreement Filing to be effective 12/17/2019.

Filed Date: 1/17/20.

Accession Number: 20200117-5048.

Comments Due: 5 p.m. ET 2/7/20.

Docket Numbers: ER20-828-000.

Applicants: Alabama Power Company.

Description: Tariff Cancellation: JEA Interchange Contract Termination Filing to be effective 12/17/2019.

Filed Date: 1/17/20.

Accession Number: 20200117-5049.

Comments Due: 5 p.m. ET 2/7/20.

Docket Numbers: ER20-829-000.

Applicants: Georgia Power Company.

Description: § 205(d) Rate Filing: JEA Interconnection Agreement Filing to be effective 12/17/2019.

Filed Date: 1/17/20.

Accession Number: 20200117-5050.

Comments Due: 5 p.m. ET 2/7/20.

Docket Numbers: ER20-830-000.

Applicants: Mississippi Power Company.

Description: § 205(d) Rate Filing: JEA Interconnection Agreement Filing to be effective 12/17/2019.

Filed Date: 1/17/20.

Accession Number: 20200117-5052.

Comments Due: 5 p.m. ET 2/7/20.

Docket Numbers: ER20-831-000.

Applicants: Southern California Edison Company.

Description: Notice of Cancellation of Rate Schedule No. 301 of Southern California Edison Company.

Filed Date: 1/16/20.

Accession Number: 20200116-5144.

Comments Due: 5 p.m. ET 2/6/20.

Docket Numbers: ER20-832-000.

Applicants: New Mexico Wind, LLC.

Description: § 205(d) Rate Filing: New Mexico Wind, LLC Amendment to MBR Tariff to be effective 1/18/2020.

Filed Date: 1/17/20.

Accession Number: 20200117-5071.

Comments Due: 5 p.m. ET 2/7/20.

Docket Numbers: ER20-833-000.

Applicants: NextEra Blythe Solar Energy Center, LLC.

Description: § 205(d) Rate Filing: NextEra Blythe Solar Energy, LLC Amendment to MBR Tariff to be effective 1/18/2020.

Filed Date: 1/17/20.

Accession Number: 20200117-5072.

Comments Due: 5 p.m. ET 2/7/20.

Docket Numbers: ER20-834-000.

Applicants: Pima Energy Storage System, LLC.

Description: § 205(d) Rate Filing: Pima Energy Storage System, LLC Amendment to MBR Tariff to be effective 1/18/2020.

Filed Date: 1/17/20.

Accession Number: 20200117-5074.

Comments Due: 5 p.m. ET 2/7/20.

Docket Numbers: ER20-835-000.

Applicants: Pinal Central Energy Center, LLC.

Description: § 205(d) Rate Filing: Pinal Central Energy Center, LLC Amendment to MBR Tariff to be effective 1/18/2020.

Filed Date: 1/17/20.

Accession Number: 20200117-5077.

Comments Due: 5 p.m. ET 2/7/20.

Docket Numbers: ER20-836-000.

Applicants: Shafter Solar, LLC.

Description: § 205(d) Rate Filing: Shafter Solar, LLC Amendment to MBR Tariff to be effective 1/18/2020.

Filed Date: 1/17/20.

Accession Number: 20200117-5080.

Comments Due: 5 p.m. ET 2/7/20.

Docket Numbers: ER20-837-000.

Applicants: Silver State Solar Power South, LLC.

Description: § 205(d) Rate Filing: Silver State Solar Power South, LLC Amendment to MBR Tariff to be effective 1/18/2020.

Filed Date: 1/17/20.

Accession Number: 20200117-5081.

Comments Due: 5 p.m. ET 2/7/20.

Docket Numbers: ER20-838-000.

Applicants: Duke Energy Ohio, Inc.

Description: § 205(d) Rate Filing: DEO-AEP Amended IA (PJM SA No. 1491) to be effective 12/21/2019.

Filed Date: 1/17/20.

Accession Number: 20200117-5084.

Comments Due: 5 p.m. ET 2/7/20.

Docket Numbers: ER20-839-000.

Applicants: Duke Energy Ohio, Inc.

Description: § 205(d) Rate Filing: DEO-DP&L Amended IA (PJM SA No. 5186) to be effective 12/21/2019.

Filed Date: 1/17/20.

Accession Number: 20200117-5086.

Comments Due: 5 p.m. ET 2/7/20.

Docket Numbers: ER20-840-000.

Applicants: Golden Fields Solar IV, LLC.

Description: § 205(d) Rate Filing: Amended and Restated Shared Facilities Agreement and Request for Waivers to be effective 1/18/2020.

Filed Date: 1/17/20.

Accession Number: 20200117-5098.

Comments Due: 5 p.m. ET 2/7/20.

Docket Numbers: ER20-841-000.

Applicants: Appalachian Power Company, PJM Interconnection, L.L.C.

Description: § 205(d) Rate Filing: PJM Transmission Owners submit revisions to OATT to add a new AttachmentM-4 to be effective 3/17/2020.

Filed Date: 1/17/20.

Accession Number: 20200117-5100.

Comments Due: 5 p.m. ET 2/7/20.

Docket Numbers: ER88-31-009.; ER88-32-009;. EL88-1-010.

Applicants: Indiana Michigan Power Company.

Description: Report for 2019 on review of nuclear decommissioning costs and FERC wholesale requirement customer contributions of Indiana Michigan Power Company, et al.

Filed Date: 1/15/20.

Accession Number: 20200115-5190.

Comments Due: 5 p.m. ET 2/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2020.
Nathaniel J. Davis, Sr.,
Deputy Secretary.

[FR Doc. 2020-01185 Filed 1-23-20; 8:45 am]

BILLING CODE 6717-01-P